DEPARTMENT OF TRANSPORTATION

Federal Aviation Administration

14 CFR Part 71

[Docket No. FAA-2005-20056; Airspace Docket No. 05-AEA-01]

Amendment of Class E Airspace; Harrisburg, PA

AGENCY: Federal Aviation Administration (FAA), DOT.

ACTION: Final rule; correction.

SUMMARY: This action corrects a rule that was published in the Federal Register on April 11, 2005, (70 FR 18295-18296). It corrects an error in the legal description of Class E airspace for Harrisburg, PA.

DATES: Effective June 8, 2005.

FOR FURTHER INFORMATION CONTACT: Mr. Francis Jordan, Airspace Specialist, Airspace and Operations, ETSU, Federal Aviation Administration, 1 Aviation Plaza, Jamaica, New York 11434-4809, telephone: (718) 553-4521.

SUPPLEMENTARY INFORMATION: Docket No. FAA-2005-20056; Airspace Docket No. 05-AEA-01, published in the Federal Register on April 11, 2005 (70 FR 18295-18296), amended the description of the Class E airspace at Harrisburg, PA. An error was discovered in the geographic coordinates describing the designated airspace area. This action corrects that error.

List of Subjects in CFR Part 71

Airspace, Incorporation by reference, Navigation (air).

Correction to Final Rule

§ 71.1 [Corrected]

On page 18296, column 2, beginning with line 10, change to read:

AEA PA E5 Harrisburg, PA (Revised)

That airspace extending upward from 700 feet above the surface within an area bounded by a line beginning at lat. 39°43′19″ N., long. 76°51′26″ W., to lat. 70°07′49″ N., long. 77°20′54″ W., to lat. 40°16′46″ N., long. 77°20′53″ W., to lat. 40°42′10″ N., long. 76°32′34″ W., to lat. 40°13′15″ N., long. 76°00′32″ W., to lat. 40°00′59″ N., long. 76°01′11″ W., to the point of beginning, excluding that portion that coincides with the Pottsville, PA, Class E airspace area and the Reading, PA, Class E airspace area.

Issued in Jamaica, New York, on May 31, 2005.
John G. McCartney,
Acting Area Director, Eastern Terminal Operations.

[FR Doc. 05-11329 Filed 6-7-05; 8:45 am]

BILLING CODE 4910-13-M